DEPARTMENT OF JUSTICE

Antitrust Division

Notice Pursuant to the National Cooperative Research and Production Act of 1993—Cooperative Research Group on Development of a Predictive Model for Corrosion-Fatigue of Materials in Sour Environment

Notice is hereby given that, on June 9, 2016, pursuant to section 6(a) of the National Cooperative Research and Production Act of 1993, 15 U.S.C. 4301 et seq. (“the Act”), Southwest Research Institute—Cooperative Research Group on Development of a Predictive Model for Corrosion-Fatigue of Materials in Sour Environment (“Model-CFM”) has filed written notifications simultaneously with the Attorney General and the Federal Trade Commission disclosing changes in its membership. The notifications were filed for the purpose of extending the Act's provisions limiting the recovery of antitrust plaintiffs to actual damages under specified circumstances. Specifically, Tubos De Acero De Mexico S.A., Veracruz, MEXICO; and Vallourec Mannesmann Oil & Gas France, Aulnoye-Aymeries, FRANCE, have withdrawn as parties to this venture.

No other changes have been made in either the membership or planned activity of the group research project. Membership in this group research project remains open, and Model-CFM intends to file additional written notifications disclosing all changes in membership.

On May 17, 2011, Model-CFM filed its original notification pursuant to section 6(a) of the Act. The Department of Justice published a notice in the Federal Register pursuant to section 6(b) of the Act on July 7, 2011 (76 FR 39901).

The last notification was filed with the Department on September 26, 2011. A notice was published in the Federal Register pursuant to section 6(b) of the Act on October 26, 2011 (76 FR 66325).

Patricia A. Brink,
Director of Civil Enforcement, Antitrust Division.

[FR Doc. 2016-16778 Filed 7-14-16; 8:45 am]

BILLING CODE P